DEPARTMENT OF HOMELAND SECURITY

Federal Emergency Management Agency

[Docket ID FEMA-2015-0001; Internal Agency Docket No. FEMA-B-1464]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: January 16, 2015.
Roy E. Wright,
Deputy Associate Administrator for Mitigation, Department of Homeland Security, Federal Emergency Management Agency.

State and county | Location and case No. | Chief executive officer of community | Community map repository | Online location of letter of map revision | Effective date of modification | Community No.
Alabama:
Jefferson | City of Hoover (14-04-5307P) | The Honorable Gary Ivey, Mayor, City of Hoover, 100 Municipal Drive, Hoover, AL 35216 | Building Inspections Department, 2020 Valleydale Road, Hoover, AL 35244 | http://www.msc.fema.gov/lomc | Mar. 9, 2015 | 010123
Jefferson | Unincorporated areas of Jefferson County (14-04-5307P) | The Honorable David Carrington, Chairman, Jefferson County Board of Commissioners, 716 Richard Arrington Jr. Boulevard North, Birmingham, AL 35203 | Jefferson County Courthouse, Land Development Office, 716 Richard Arrington Jr. Boulevard North, Birmingham, AL 35203 | http://www.msc.fema.gov/lomc | Mar. 9, 2015 | 010127
Arizona:
Maricopa | City of Phoenix (14-09-3895P) | The Honorable Greg Stanton, Mayor, City of Phoenix, 200 West Washington Street, 11th Floor, Phoenix, AZ 85003 | Street Transportation Department, 200 West Washington Street, 5th Floor, Phoenix, AZ 85003 | http://www.msc.fema.gov/lomc | Mar. 9, 2015 | 040051
Maricopa | City of Phoenix (14-09-3896P) | The Honorable Greg Stanton, Mayor, City of Phoenix, 200 West Washington Street, 11th Floor, Phoenix, AZ 85003 | Street Transportation Department, 200 West Washington Street, 5th Floor, Phoenix, AZ 85003 | http://www.msc.fema.gov/lomc | Mar. 16, 2015 | 040051
Yavapai | City of Cottonwood (13-09-1967P) | The Honorable Diane Joens, Mayor, City of Cottonwood, 827 North Main Street, Cottonwood, AZ 86326 | City Administrator's Office, 827 North Main Street, Cottonwood, AZ 86326 | http://www.msc.fema.gov/lomc | Feb. 9, 2015 | 040096
Yavapai | Unincorporated areas of Yavapai County (13-09-1967P) | The Honorable Rowle P. Simmons, Chairman, Yavapai County Board of Supervisors, 1015 Fair Street, Prescott, AZ 86305 | Yavapai County Flood Control District, 1120 Commerce Drive, Prescott, AZ 86305 | http://www.msc.fema.gov/lomc | Feb. 9, 2015 | 040093
California:
Merced | City of Merced (14-09-3465P) | The Honorable Stanley P. Thurston, Mayor, City of Merced, 678 West 18th Street, Merced, CA 95340 | City Hall, 678 West 18th Street, Merced, CA 95340 | http://www.msc.fema.gov/lomc | Mar. 5, 2015 | 060191
Monterey | City of Seaside (14-09-3525P) | The Honorable Ralph Rubio, Mayor, City of Seaside, 440 Harcourt Avenue, Seaside, CA 93955 | Public Works Division, 440 Harcourt Avenue, Seaside, CA 93955 | http://www.msc.fema.gov/lomc | Mar. 23, 2015 | 060203
Monterey | Unincorporated areas of Monterey County (14-09-3525P) | The Honorable Louis R. Calcagno, Chairman, Monterey County Board of Supervisors, P.O. Box 1728, Salinas, CA 93902 | Monterey County Water Resources Department, 893 Blanco Circle, Salinas, CA 93901 | http://www.msc.fema.gov/lomc | Mar. 23, 2015 | 060195
Riverside | City of Corona (14-09-3245P) | The Honorable Karen Spiegel, Mayor, City of Corona, 400 South Vicentia Avenue, Corona, CA 92882 | City Hall, 400 South Vicentia Avenue, Corona, CA 92882 | http://www.msc.fema.gov/lomc | Mar. 12, 2015 | 060250
Riverside | City of Eastvale (14-09-2404P) | The Honorable Ike Bootsma, Mayor, City of Eastvale, 12363 Limonite Avenue, Suite 910, Eastvale, CA 91752 | City Hall, 12363 Limonite Avenue, Suite 910, Eastvale, CA 91752 | http://www.msc.fema.gov/lomc | Mar. 9, 2015 | 060155
Riverside | City of Norco (14-09-2404P) | The Honorable Berwin Hanna, Mayor, City of Norco, 2870 Clark Avenue, Norco, CA 92860 | City Hall, 2870 Clark Avenue, Norco, CA 92860 | http://www.msc.fema.gov/lomc | Mar. 9, 2015 | 060256
Colorado:
Adams | City of Thornton (14-08-1198P) | The Honorable Heidi Williams, Mayor, City of Thornton, 9500 Civic Center Drive, Thornton, CO 80229 | City Hall, 9500 Civic Center Drive, Thornton, CO 80229 | http://www.msc.fema.gov/lomc | Mar. 20, 2015 | 080007
Adams | Unincorporated areas of Adams County (14-08-1198P) | The Honorable Charles Tedesco, Chairman, Adams County Board of Commissioners, 4430 South Adams County Parkway, 5th Floor, Suite C5000A, Brighton, CO 80601 | Adams County Emergency Management Department, 4430 South Adams County Parkway, Brighton, CO 80601 | http://www.msc.fema.gov/lomc | Mar. 20, 2015 | 080001
Jefferson | City of Arvada (14-08-1331P) | The Honorable Marc Williams, Mayor, City of Arvada, 8101 Ralston Road, Arvada, CO 80001 | Engineering Division, 8101 Ralston Road, Arvada, CO 80001 | http://www.msc.fema.gov/lomc | Mar. 27, 2015 | 085072
Jefferson | Unincorporated areas of Jefferson County (14-08-1331P) | The Honorable Faye Griffin, Chair, Jefferson County Board of Commissioners, 100 Jefferson County Parkway, Golden, CO 80419 | Jefferson County Department of Planning and Zoning, 100 Jefferson County Parkway, Golden, CO 80419 | http://www.msc.fema.gov/lomc | Mar. 27, 2015 | 080087
Teller | City of Woodland (14-08-0157P) | The Honorable Neil Levy, Mayor, City of Woodland Park, P.O. Box 9007, Woodland Park, CO 80866 | City Hall, 220 West South Avenue, Woodland Park, CO 80866 | http://www.msc.fema.gov/lomc | Mar. 26, 2015 | 080175
Teller | Unincorporated areas of Teller County (14-08-0157P) | The Honorable Dave Paul, Chairman, Teller County Board of Commissioners, P.O. Box 959, Cripple Creek, CO 80813 | Teller County Office of Emergency Management, P.O. Box 959, Cripple Creek, CO 80813 | http://www.msc.fema.gov/lomc | Mar. 26, 2015 | 080173
Florida:
Escambia | Unincorporated areas of Escambia County (14-04-7298P) | The Honorable Lumon May, Chairman, Escambia County Board of Commissioners, 221 Palafox Place, Suite 400, Pensacola, FL 32502 | Escambia County Planning and Zoning Division, 3363 West Park Place, Pensacola, FL 32505 | http://www.msc.fema.gov/lomc | Mar. 26, 2015 | 120080
Lee | Unincorporated areas of Lee County (14-04-6406P) | The Honorable Larry Kiker, Chairman, Lee County Board of Commissioners, P.O. Box 398, Fort Myers, FL 33902 | Lee County Community Development Department, 1500 Monroe Street, Fort Myers, FL 33901 | http://www.msc.fema.gov/lomc | Jan. 15, 2015 | 125124
Manatee | Unincorporated areas of Manatee County (14-04-7603P) | The Honorable Larry Bustle, Chairman, Manatee County Board of Commissioners, P.O. Box 1000, Bradenton, FL 34205 | Manatee County Building and Development Services Department, 1112 Manatee Avenue West, Bradenton, FL 34205 | http://www.msc.fema.gov/lomc | Mar. 26, 2015 | 120153
Sumter | Unincorporated areas of Sumter County (14-04-3829P) | The Honorable Al Butler, Chairman, Sumter County Board of Commissioners, 7375 Powell Road, Wildwood, FL 34785 | Sumter County Community Development Department, 7375 Powell Road, Wildwood, FL 34785 | http://www.msc.fema.gov/lomc | Mar. 13, 2015 | 120296
Hawaii:
Hawaii | Hawaii County (14-09-1104P) | The Honorable William P. Kenoi, Mayor, Hawaii County, 25 Aupuni Steet, Hilo, HI 96720 | Hawaii County Department of Public Works, 101 Pauahi Street, Suite 7, Hilo, HI 96720 | http://www.msc.fema.gov/lomc | Jan. 26, 2015 | 155166
Montana:
Missoula | Unincorporated areas of Missoula County (14-08-0395P) | The Honorable Jean Curtiss, Chair, Missoula County Board of Commissioners, 200 West Broadway, Missoula, MT 59802 | Missoula County Community and Planning Services Department, 323 West Alder, Missoula, MT 59802 | http://www.msc.fema.gov/lomc | Mar. 13, 2015 | 300048
North Carolina:
Brunswick | Town of St. James (13-04-4667P) | The Honorable Rebecca Dus, Mayor, Town of St. James, 4140 A Southport-Supply Road, St. James, NC 28461 | Town Hall, 4140 A Southport-Supply Road, St. James, NC 28461 | http://www.msc.fema.gov/lomc | Feb. 27, 2015 | 370530
Brunswick | Unincorporated areas of Brunswick County (13-04-4667P) | The Honorable Scott Phillips, Chairman, Brunswick County Board of Commissioners, P.O. Box 249, Bolivia, NC 28422 | Brunswick County Building Inspections Department, 75 Courthouse Drive Northeast, Building I, Bolivia, NC 28422 | http://www.msc.fema.gov/lomc | Feb. 27, 2015 | 370295
Cabarrus | Town of Harrisburg (14-04-6011P) | The Honorable Steve Sciascia, Mayor, Town of Harrisburg, 4100 Main Street, Harrisburg, NC 28075 | Planning Department, 4100 Main Street, Harrisburg, NC 28075 | http://www.msc.fema.gov/lomc | Feb. 26, 2014 | 370038
Columbus | Unincorporated areas of Columbus County (14-04-2787P) | Mr. William S. Clark, Manager, Columbus County, 111 Washington Street, Whiteville, NC 28472 | Columbus County Building Inspections Office, 306 Jefferson Street, Whiteville, NC 28472 | http://www.msc.fema.gov/lomc | Feb. 20, 2015 | 370305
Forsyth | Town of Kernersville (14-04-6374P) | The Honorable Dawn H. Morgan, Mayor, Town of Kernersville, P.O. Box 728, Kernersville, NC 27284 | Town Hall, 134 East Mountain Street, Kernersville, NC 27284 | http://www.msc.fema.gov/lomc | Mar. 16, 2015 | 370319
Iredell | Town of Mooresville (14-04-4151P) | The Honorable Miles Atkins, Mayor, Town of Mooresville, 413 North Main Street, Mooresville, NC 28115 | Planning Department, 413 North Main Street, Mooresville, NC 28115 | http://www.msc.fema.gov/lomc | Mar. 5, 2015 | 370314
Mecklenburg | City of Charlotte (14-04-4804P) | The Honorable Daniel Clodfelter, Mayor, City of Charlotte, 600 East 4th Street, Charlotte, NC 28202 | Mecklenburg County Storm Water Services Office, 700 North Tyron Street, Charlotte, NC 28202 | http://www.msc.fema.gov/lomc | Feb. 24, 2014 | 370159
Wake | Unincorporated areas of Wake County (14-04-3226P) | Mr. Jim Hartmann, Manager, Wake County, P.O. Box 550, Raleigh, NC 27602 | Wake County Environmental Services Department, 336 Fayetteville Street, Raleigh, NC 27601 | http://www.msc.fema.gov/lomc | Mar. 13, 2015 | 370368

[FR Doc. 2015-02234 Filed 2-4-15; 8:45 am]

BILLING CODE 9110-12-P